SURFACE TRANSPORTATION BOARD

[Docket No. MCF 21129]

TBL Group, Inc.—Control—Echo Windy City, LLC

AGENCY: Surface Transportation Board.

ACTION: Notice tentatively approving and authorizing finance transaction.

SUMMARY: TBL Group, Inc. (TBL Group), a holding company that owns multiple interstate motor passenger carriers, has filed an application for Board approval of its acquisition of an additional federally regulated motor passenger carrier, Echo Windy City, LLC (Echo Windy). The Board is tentatively approving and authorizing the transaction. If no opposing comments are timely filed, this notice will be the final Board action.

DATES: Comments must be filed by April 7, 2025. If any comments are filed, TBL Group may file a reply by April 21, 2025. If no opposing comments are filed by April 7, 2025, this notice shall be effective on April 8, 2025.

ADDRESSES: Comments, referring to Docket No. MCF 21129, may be filed with the Board either via e-filing on the Board's website or in writing addressed to: Surface Transportation Board, 395 E Street SW, Washington, DC 20423-0001. In addition, send one copy of comments to TBL Group's representative: Andrew K. Light, Scopelitis, Garvin, Light, Hanson & Feary, P.C., 10 W Market Street, Suite 1400, Indianapolis, IN 46204.

FOR FURTHER INFORMATION CONTACT: Nathaniel Bawcombe at (202) 245-0376. If you require an accommodation under the Americans with Disabilities Act, please call (202) 245-0245.

SUPPLEMENTARY INFORMATION: On January 21, 2025, TBL Group filed an application under 49 U.S.C. 14303 and 49 CFR part 1182, for Board authority for TBL Group to control Echo Windy, currently an intrastate motor passenger carrier affiliate of TBL Group, upon Echo Windy's procurement of interstate authority via an application with the Federal Motor Carrier Safety Administration (FMCSA) (the Contemplated Transaction). (Appl. 1, 6.) The Contemplated Transaction would, according to TBL Group, result in TBL Group having control of an additional interstate passenger motor carrier subject to the Board's jurisdiction under 49 U.S.C. 14303(a)(5). (Appl. 1.)

According to the application, TBL Group is a Texas corporation, headquartered at 15734 Aldine Westfield Road, Houston, TX 77032. (Id. at 2.) TBL Group asserts it is not a federally regulated carrier. (Id.) The application further states that TBL Group controls three interstate passenger motor carriers: GBJ Inc. (GBJ), Echo East Coast Transportation LLC (Echo East Coast), and Echo Tours & Charters, LP. (Echo Tours). (Id. at 2-4, Exs. A, B.) TBL Group states that GBJ is a Texas corporation doing business as Echo AFC Transportation, that primarily provides charter and shuttle services for companies, non-profits, schools, and tour operators in Houston, Tex., but also provides interstate charter passenger transportation service. (Id. at 2-3.) Echo East Coast is described in the application as a Texas limited liability company that primarily provides interstate and intrastate charter services in the area of Jacksonville, Fla. (Id. at 3.) Echo Tours is described by TBL Group as a Texas limited partnership doing business as Echo Transportation, that primarily provides charter and shuttle services for companies, non-profits, schools, and tour operators in the metropolitan area of Dallas, Tex., but also provides interstate charter passenger transportation. (Id. at 3-4.) TBL Group also explains that it has filed an application, in Docket No. MCF 21126, to acquire control of Reston Limousine & Travel Service, Inc. (Reston), a Virginia corporation operating as a motor carrier of passengers that primarily provides shuttle and general charter services in the metropolitan area of Washington, DC (Id. at 2, 6.) ¹ The application states that, except for GBJ, Echo East Coast, Echo Tours, and prospectively Reston, there are no other affiliated interstate carriers with which TBL Group is involved. (Id. at 2-6.)

¹ When TBL Group filed its application to control Echo Windy, its application to acquire control of Reston was pending, but since has been tentatively approved. See TBL Group, Inc.—Acquis. of Control—Reston Limousine & Travel Serv., Inc., MCF 21126 (STB served Feb. 14, 2025).

TBL Group describes Echo Windy as a Texas limited liability company, doing business as Echo Windy City Transportation. (Id. at 5.) The application describes Echo Windy as currently providing traditional Illinois intrastate limousine and charter passenger transportation services in the metropolitan area of Chicago. (Id.) The application states that Echo Windy also provides on a limited basis brokerage of interstate passenger moves to other interstate passenger motor carriers. (Id.) TBL Group asserts that it acquired the primary assets comprising Echo Windy in September 2024. (Id.) TBL Group goes on to describe Echo Windy as a direct subsidiary of TBL Group that currently utilizes approximately 36 motor coaches, 55 minibuses, and 18 limousines, and employs approximately 118 drivers. (Id.) TBL Group asserts that Echo Windy desires to obtain interstate passenger motor carrier authority in order to expand its service offerings to include the option for its customers to obtain direct interstate passenger transportation services from Echo Windy. (Id.)

Under 49 U.S.C. 14303(b), the Board must approve and authorize a transaction that it finds consistent with the public interest, taking into consideration at least (1) the effect of the proposed transaction on the adequacy of transportation to the public, (2) the total fixed charges resulting from the proposed transaction, and (3) the interest of affected carrier employees. TBL Group has submitted the information required by 49 CFR 1182.2, including information demonstrating that the proposed transaction is consistent with the public interest under 49 U.S.C. 14303(b), see 49 CFR 1182.2(a)(7), and a jurisdictional statement under 49 U.S.C. 14303(g) that the aggregate gross operating revenues of the involved carriers exceeded $2 million during the 12-month period immediately preceding the filing of the application, see 49 CFR 1182.2(a)(5).

TBL Group asserts that granting the application would not have any detrimental impact on the adequacy of transportation services available for the public in Echo Windy's service area. (Appl. 8.) According to TBL Group, the extensive intrastate services currently provided by Echo Windy will continue to be provided and the addition of a direct interstate service offering will enhance the provision of adequate service to the public. (Id.) TBL Group asserts that there are no fixed charges associated with the Contemplated Transaction. (Id.) The application states that the existing operations of Echo Windy (and, as such, the Contemplated Transaction) are not expected to negatively impact employees or labor conditions, as TBL Group expects that its ability to provide direct interstate passenger service will produce additional trip opportunities for its existing drivers and possibly demand for hiring additional drivers. (Id.)

TBL Group states that in Echo Windy's service area, the market for interstate limousine and charter transportation services, as well as other traditional passenger service providers, is very competitive due to demand and the significant number of national, regional, and local providers operating within the area. (Id. at 10.) The application asserts that Echo Windy's service area is geographically dispersed from service areas of TBL Group's affiliated carriers and Reston in regard to service offerings, and there is no overlap in customer bases. (Id.) The application concludes that the impact of the Contemplated Transaction on the interstate segment of the passenger motor carrier industry, even with the recent tentative approval of Reston, will be minimal at most and that neither competition nor the public interest will be adversely affected. (Id. at 10-11.)

Based on TBL Group's representations, the Board finds that the Contemplated Transaction as proposed in the application is consistent with the public interest. The application will be tentatively approved and authorized. If any opposing comments are timely filed, these findings will be deemed vacated, and, unless a final decision can be made on the record as developed, a procedural schedule will be adopted to reconsider the application. See 49 CFR 1182.6. If no opposing comments are filed by the expiration of the comment period, this notice will take effect automatically and will be the final Board action in this proceeding.

This action is categorically excluded from environmental review under 49 CFR 1105.6(c).

Board decisions and notices are available at www.stb.gov.

It is ordered:

1. The proposed transaction is approved and authorized, subject to the filing of opposing comments.

2. If opposing comments are timely filed, the findings made in this notice will be deemed vacated.

3. This notice will be effective on April 8, 2025, unless opposing comments are filed by April 7, 2025. If any comments are filed, TBL Group may file a reply by April 21, 2025.

4. A copy of this notice will be served on: (1) the U.S. Department of Transportation, Federal Motor Carrier Safety Administration, 1200 New Jersey Avenue SE, Washington, DC 20590; (2) the U.S. Department of Justice, Antitrust Division, 10th Street & Pennsylvania Avenue NW, Washington, DC 20530; and (3) the U.S. Department of Transportation, Office of the General Counsel, 1200 New Jersey Avenue SE, Washington, DC 20590.

Decided: February 13, 2025.
By the Board, Board Members Fuchs, Hedlund, Primus, and Schultz.
Raina White,
Clearance Clerk.

[FR Doc. 2025-02860 Filed 2-19-25; 8:45 am]

BILLING CODE 4915-01-P